DEPARTMENT OF LABOR

Employment and Training Administration

Comment Request for Information Collection for Veterans' Retraining Assistance Program, Extension Without Changes

AGENCY: Employment and Training Administration (ETA), Labor.

ACTION: Notice.

SUMMARY: The Department of Labor (DOL), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning extension of approval for the collection of applicant data for the Veterans' Retraining Assistance Program (VRAP), which is part of the VOW to Hire Heroes Act of 2011 (Pub. L. 112-56). VRAP is a new training program for eligible veterans, funded by the Veterans' Administration. To determine eligibility, the Act directs ETA to collect the following information from veteran applicants: Age, employment status, status in a Federal or state job training program within 180 days of the application, and date of application.

This information collection follows an emergency review that was conducted in accordance with the Paperwork Reduction Act of 1995 and 5 CFR 1320.13. OMB approved the emergency request on April 11, 2012. A copy of the proposed information collection request (ICR) can be obtained by contacting the office listed below in the addresses section of this notice.

DATES: Written comments must be submitted to the office listed in the addresses section below on or before July 23, 2012.

ADDRESSES: Submit written comments to Andrew Ridgeway, Office of Workforce Investment, Room S-4209, Employment and Training Administration, U.S. Department of Labor, 200 Constitution Avenue NW., Washington, DC 20210. Telephone number: 202-693-3536 (this is not a toll-free number). Individuals with hearing or speech impairments may access the telephone number above via TTY by calling the toll-free Federal Information Relay Service at 1-877-889-5627 (TTY/TDD). Fax: 202-693-3817. Email: Ridgeway.Andrew@dol.gov.

SUPPLEMENTARY INFORMATION:

I. Background

ETA seeks a regular extension of OMB's approval to collect individual applicant data for the Veterans Retraining Assistance Program (VRAP) as part of the VOW to Hire Heroes Act of 2011 (Pub. L. 112-56), enacted November 21, 2011. The Act directs the Department of Veterans Affairs (VA), in cooperation with the DOL, to pay for up to 12 months of a training program in a high demand occupation for unemployed eligible veterans. The program is to serve up to 45,000 veterans in Fiscal Year (FY) 2012, beginning July 1, 2012, and up to 54,000 veterans from October 1, 2012, through March 31, 2014.

The VRAP provides the benefit to veterans who fulfill the following eligibility criteria: As of date of application, is at least 35 years old and less than 60; discharged from active duty under conditions other than dishonorable; is unemployed as of date of application; is not eligible to receive other educational assistance from the VA; is not in receipt of compensation for a service-connected disability rated totally disabling by reason of unemployability; was not and is not enrolled in any Federal or state job training program within the previous 180 days; and, the application must be submitted not later than October 1, 2013.

The VA is responsible for determining the following eligibility criteria: Discharged from active duty under conditions other than dishonorable; is not eligible to receive other educational assistance from the VA; is not in receipt of compensation for a service-connected disability rated totally disabling by reason of unemployability. The VA will be collecting information required for their eligibility criteria through the “Application for VA Educational Benefits” (OMB Control Number 2900-0154, VA Form 22-1990). The DOL is required to determine whether each veteran applying for the program is between 35 and 60 years old, is unemployed as of the date of the application, has not and is not enrolled in a Federal or state job training program within 180 days of the application, and has applied for the program no later than October 1, 2013. The DOL is proposing to determine its eligibility requirements by collecting individual applicant data. The data will be linked to the VA's Veterans On-Line Application (VONAPP, VA Form 22-1990) to complete the application. The VA will transmit reports to the DOL about the completion status of the veterans, so that the DOL can make contact with the veteran to offer employment services.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension Without Changes.

Title: Veterans' Retraining Assistance Program.

OMB Number: 1205-0491.

Affected Public: Veteran Program Applicants.

Form(s): Intake Application.

Total Annual Respondents: 100,000.

Annual Frequency: Once.

Total Annual Responses: 100,000.

Average Time per Response: Five (5) minutes.

Estimated Total Annual Burden Hours: 8,333.

Total Annual Burden Cost for Respondents: $0.

Comments submitted in response to this comment request will be summarized and/or included in the request for OMB approval of the ICR; they will also become a matter of public record.

Dated: Signed in Washington, DC, on this 16th day of May, 2012.
Jane Oates,
Assistant Secretary for Employment and Training, Labor.

[FR Doc. 2012-12624 Filed 5-23-12; 8:45 am]

BILLING CODE 4510-FN-P